DEPARTMENT OF THE INTERIOR

Bureau of Land Management

[LLMT926000-10-L19100000-BJ0000-LRCM08RS4029]

Notice of Filing of Plats of Survey; Montana

AGENCY: Bureau of Land Management, Interior.

ACTION: Notice of filing of plats of survey.

SUMMARY: The Bureau of Land Management (BLM) will file the plat of survey of the lands described below in the BLM Montana State Office, Billings, Montana, September 10, 2010.

FOR FURTHER INFORMATION CONTACT: Randy Thomas, Cadastral Surveyor, Branch of Cadastral Survey, Bureau of Land Management, 5001 Southgate Drive, Billings, Montana 59101-4669, telephone (406) 896-5134 or (406) 896-5009.

SUPPLEMENTARY INFORMATION: This survey was executed at the request of the Superintendent, Fort Peck Agency, through the Rocky Mountain Regional Director, Bureau of Indian Affairs, and was necessary to determine boundaries of trust or tribal interest lands.

Principal Meridian, Montana

T. 26 N., R. 44 E.

The plat, in 1 sheet, representing the dependent resurvey of a portion of the west and north boundaries, the corrective dependent resurvey of the line between sections 6 and 7, the dependent resurvey of a portion of the subdivisional lines, the subdivision of section 6, and the adjusted original meanders of the former left bank of the Missouri River, downstream, through sections 5, 6, and 7, the subdivision of section 6, and the survey of the informative traverse of the left bank of a relicted channel of the Missouri River, downstream, through a portion of section 7, the informative traverse of a portion of the present left bank of the Missouri River, downstream, through a portion of section 7, the meanders of the present left bank of the Missouri River, downstream, through section 6 and a portion of section 5, and certain division of accretion lines, Township 26 North, Range 44 East, Principal Meridian, Montana, was accepted August 3, 2010.

We will place a copy of the plat, in 1 sheet, and related field notes we described in the open files. They will be available to the public as a matter of information. If the BLM receives a protest against this survey, as shown on this plat, in 1 sheet, prior to the date of the official filing, we will stay the filing pending our consideration of the protest. We will not officially file this plat, in 1 sheet, until the day after we have accepted or dismissed all protests and they have become final, including decisions or appeals.

Authority: 43 U.S.C. Chap. 3.

Dated: August 4, 2010.
James D. Claflin,
Chief Cadastral Surveyor, Division of Resources.

[FR Doc. 2010-19801 Filed 8-10-10; 8:45 am]

BILLING CODE 4310-DN-P